DEPARTMENT OF COMMERCE

International Trade Administration

[A-565-801]

Stainless Steel Butt-Weld Pipe Fittings From the Philippines: Rescission of Antidumping Duty Administrative Review; 2019-2020

AGENCY: Enforcement and Compliance, International Trade Administration, Department of Commerce.

SUMMARY: The Department of Commerce (Commerce) is rescinding its administrative review of the antidumping duty order on stainless steel butt-weld pipe fittings from the Philippines for the period of review (POR) February 1, 2019, through January 31, 2020.

DATES: Applicable May 29, 2020.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On February 3, 2020, Commerce published in the Federal Register a notice of opportunity to request an administrative review of the antidumping duty order ¹ on stainless steel butt-weld pipe fittings from the Philippines for the POR.² On February 28, 2020, Commerce received a timely request from Core Pipe Products, Inc. and Taylor Forge Stainless Inc. (the petitioners), in accordance with section 751(a) of the Tariff Act of 1930, as amended (the Act), and 19 CFR 351.213(b), to conduct an administrative review of the Order for three companies.³ On April 8, 2020, Commerce published in the Federal Register a notice of initiation with respect to three companies: E N Corporation, Enlin Steel Corporation, and Vinox Corporation (a/k/a Vinoc Corporation).⁴ On May 5, 2020, the petitioners timely withdrew their request for an administrative review for all three companies.⁵

¹ See Antidumping Duty Orders: Stainless Steel Butt-Weld Pipe Fittings from Italy, Malaysia, and the Philippines, 66 FR 11257 (February 23, 2001) (the Order).

² See Antidumping or Countervailing Duty Order, Finding, or Suspended Investigation; Opportunity to Request Administrative Review, 85 FR 5938 (February 3, 2020).

³ See Petitioners' Letter, “Stainless Steel Butt-Weld Pipe Fittings from the Philippines: Petitioners' Request for 2019/2020 Administrative Review,” dated February 28, 2020.

⁴ See Initiation of Antidumping and Countervailing Duty Administrative Reviews, 85 FR 19730 (April 8, 2020).

⁵ See Petitioners' Letter, “Stainless Steel Butt-Weld Pipe Fittings from the Philippines: Petitioners' Withdrawal Request for 2019/2020 Administrative Review,” dated May 5, 2020.

On April 24, 2020, Commerce tolled all deadlines in administrative reviews by 50 days, thereby extending the deadline for these results until December 21, 2020.⁶

⁶ See Memorandum, “Tolling of Deadlines for Antidumping and Countervailing Duty Administrative Reviews in Response to Operational Adjustments Due to COVID-19,” dated April 24, 2020.

Rescission of Administrative Review

Pursuant to 19 CFR 351.213(d)(1), Commerce will rescind an administrative review, in whole or in part, if the parties which requested a review withdraw the request within 90 days of the date of publication of the notice of initiation of the requested review. All parties which requested an administrative review withdrew their requests for review for all companies by the 90-day deadline, and no other party requested an administrative review of this order. Therefore, in accordance with 19 CFR 351.213(d)(1), we are rescinding the administrative review of the antidumping duty order on stainless steel butt-weld pipe fittings from the Philippines covering the period February 1, 2019, through January 31, 2020, in its entirety.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with sections 751(a)(1) and 777(i)(1) of the Act, and 19 CFR 351.213(d)(4).

Dated: May 21, 2020.
James Maeder,
Deputy Assistant Secretary for Antidumping and Countervailing Duty Operations.

[FR Doc. 2020-11450 Filed 5-27-20; 8:45 am]

BILLING CODE 3510-DS-P